DEPARTMENT OF TRANSPORTATION

Federal Aviation Administration

Final Policy Statement, Diesel Engine Installation, PS-ACE100-2002-004

AGENCY: Federal Aviation Administration (FAA), DOT.

ACTION: Notice of issuance of policy.

SUMMARY: This notice announces the issuance of policy PS-ACE100-2002-004, Final Policy Statement, Diesel Engine Installation. The purpose of this policy statement is to identify appropriate certification requirements for installation of a diesel engine into a small airplane. It also includes guidance related to methods of compliance as well as items that may require equivalent level of safety findings (ELOS) or special conditions.

DATES: PS-ACE100-2002-004 was issued by the Acting Manager of the Small Airplane Directorate on May 15, 2003.

How To Obtain Copies: A paper copy of the policy PS-ACE100-2002-004 may be obtained by contacting Mr. Pete Rouse, (816) 329-4135, Small Airplane Directorate, Standards Office (ACE-110), Aircraft Certification Office, Federal Aviation Administration, 901 Locust, Room 301, Kansas City, MO 64106, or by faxing your request to (816) 329-4090. The policy will also be available on the Internet at http://www.airweb.faa.gov/policy.

Issued in Kansas City, Missouri on May 22, 2003.
Michael Gallagher,
Manager, Small Airplane Directorate.

[FR Doc. 03-14993 Filed 6-12-03; 8:45 am]

BILLING CODE 4910-13-P